DEPARTMENT OF ENERGY

Federal Energy Regulatory Commission

[Docket Nos. CP01-409-006, CP01-410-005, CP01-411-008, and CP01-444-005]

Calypso U.S. Pipeline, LLC; Notice of Filing

May 16, 2006.

Take notice that on May 9, 2006, Calypso U.S. Pipeline, LLC (Calypso) filed an application pursuant to sections 3 and 7 of the Natural Gas Act (NGA) and part 157 of the Commission's Rules and Regulations for modifications of the Order Issuing Certificates, section 3 Authorization, and Presidential Permit issued to Calypso on March 24, 2004. The primary modifications would alter an aspect of the construction methodology to be used for the pipeline and enlarge the diameter of the pipeline. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or for TTY, contact (202) 502-8659.

The changes for which approval is sought in the application include: (i) Authority to modify near shore horizontal directional drilling construction to constructing a tunnel of approximately 10-foot diameter from a landward point located in Port Everglade, Florida to appoint approximately 3.20 miles seaward on the sub-sea floor where the depth is about 126 feet, (ii) authority to expand the diameter of the pipeline from its originally certificated 24 inches to 30 inches; (iii) authority to defer the in-service date to June 30, 2010; (iv) approval of various conforming changes to the rates set forth in Calypso's pro forma tariff; and (v) modification of certain conditions to construction set forth in the Commission's original certificate order. The proposed changes will not affect the certificated capacity of 832,000 MMBtu/day.

Any questions regarding the application may be directed to Timothy Fisk, Vice President and Operations Officer, Calypso U.S. Pipeline, LLC, 1990 Post Oak Boulevard, Suite 1900, Houston, Texas 77056. Telephone number is 713-636-1626.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: June 6, 2006.

Magalie R. Salas,
Secretary.

[FR Doc. E6-7892 Filed 5-23-06; 8:45 am]

BILLING CODE 6717-01-P